DEPARTMENT OF THE INTERIOR

Bureau of Land Management

[AZ-956-02-1420-BJ]

Arizona State Office; Notice of Filing of Plats of Survey

April 16, 2003.

1. The plats of survey of the following described land were officially filed in the Arizona State Office, Phoenix, Arizona, on the dates indicated:

A plat representing the dependent resurvey of a portion of the south boundary and a portion of the subdivisional lines and the subdivision of section 35, Township 9 1/2 North, Range 2 East of the Gila and Salt River Meridian, Arizona, accepted August 28, 2002 and officially filed September 5, 2002.

This plat was prepared at the request of the Phoenix Field Office, Bureau of Land Management.

A plat representing the dependent resurvey of a portion of the subdivisional lines and the subdivision of section 18 and 19, Township 9 North, Range 3 East of the Gila and Salt River Meridian, Arizona, accepted August 28, 2002 and officially filed September 5, 2002.

This plat was prepared at the request of the Phoenix Field Office, Bureau of Land Management.

A plat representing the dependent resurvey of the south and west boundaries and a portion of the subdivisional lines and the survey of a portion of the subdivisional lines, Township 28 North, Range 16 East of the Gila and Salt River Meridian, Arizona, accepted July 22, 2002 and officially filed July 25, 2002.

This plat was prepared at the request of the Bureau of Indian Affairs, Western Regional Office.

A plat representing the dependent resurvey of the Fourth Guide Meridian East through Township 27 North, the South and East boundaries and the subdivisional lines, Township 27 North, Range 17 East of the Gila and Salt River Meridian, Arizona, accepted July 15, 2002 and officially filed July 18, 2002.

This plat was prepared at the request of the Bureau of Indian Affairs, Western Regional Office.

A plat representing the dependent resurvey of a portion of the south and east boundaries and a portion of the subdivisional lines and the survey of a portion of the subdivisional lines, Township 27 North, Range 18 East of the Gila and Salt River Meridian, Arizona, accepted October 28, 2002 and officially filed November 1, 2002.

This plat was prepared at the request of the Bureau of Indian Affairs, Western Regional Office.

A plat representing the dependent resurvey of the east and north boundaries and subdivisional lines, Township 29 North, Range 18 East of the Gila and Salt River Meridian, Arizona, accepted July 22, 2002 and officially filed July 25, 2002.

This plat was prepared at the request of the Bureau of Indian Affairs, Western Regional Office.

A plat representing the survey of the south, east, west, and north boundaries, and the subdivisional lines, Township 31 North, Range 22 East of the Gila and Salt River Meridian, Arizona, accepted January 27, 2003 and officially filed January 30, 2003.

This plat was prepared at the request of the Bureau of Indian Affairs, Navajo Regional Office.

A plat representing the survey of the Eighth Standard Parallel North, (south boundary), Township 33 North, Range 23 East of the Gila and Salt River Meridian, Arizona, accepted January 14, 2003 and officially filed January 22, 2003.

This plat was prepared at the request of the Bureau of Indian Affairs, Navajo Regional Office.

A plat representing the survey of the Sixth Guide Meridian East, (west boundary), the east and north boundaries, and the subdivisional lines, Township 37 North, Range 25 East of the Gila and Salt River Meridian, Arizona, accepted September 16, 2002 and officially filed September 25, 2002.

This plat was prepared at the request of the Bureau of Indian Affairs, Navajo Regional Office.

A plat representing the survey of the Sixth Guide Meridian East, (west boundary), the east and north boundaries, and the subdivisional lines, Township 38 North, Range 25 East of the Gila and Salt River Meridian, Arizona, accepted September 16, 2002 and officially filed September 25, 2002.

This plat was prepared at the request of the Bureau of Indian Affairs, Navajo Regional Office.

A plat representing the survey of the Tenth Standard Parallel North, (south boundary), Township 41 North, Range 26 East of the Gila and Salt River Meridian, Arizona, accepted February 26, 2003 and officially filed March 6, 2003.

This plat was prepared at the request of the Bureau of Indian Affairs, Navajo Regional Office.

A plat representing the survey of the south, east and west boundaries, and the subdivisional lines, Township 40 North, Range 27 East of the Gila and Salt River Meridian, Arizona, accepted August 26, 2002 and officially filed August 30, 2002.

This plat was prepared at the request of the Bureau of Indian Affairs, Navajo Regional Office.

A plat representing the dependent resurvey of the Tenth Standard Parallel North, (south boundary), Township 41 North, Range 27 East of the Gila and Salt River Meridian, Arizona, accepted August 26, 2002 and officially filed August 30, 2002.

This plat was prepared at the request of the Bureau of Indian Affairs, Navajo Regional Office.

A plat representing the survey of the Seventh Guide Meridian East, (west boundary), a portion of the north boundary, and a portion of the subdivisional lines, Township 34 North, Range 29 East of the Gila and Salt River Meridian, Arizona, accepted September 9, 2002 and officially filed September 18, 2002.

This plat was prepared at the request of the Bureau of Indian Affairs, Navajo Regional Office.

A plat representing the survey of the Seventh Guide Meridian East, (west boundary), a portion of the north boundary, and a portion of the subdivisional lines, Township 35 North, Range 29 East of the Gila and Salt River Meridian, Arizona, accepted January 9, 2003 and officially filed January 16, 2003.

This plat was prepared at the request of the Bureau of Indian Affairs, Navajo Regional Office.

A plat representing the dependent resurvey of a portion of the west boundary and a portion of the subdivisional lines, the subdivision of sections 13, 14, 15, 16, 17, and 18 and the metes-and-bounds survey of the Arrastra Mountain Wilderness Area Boundary, Township 11 North, Range 11 West of the Gila and Salt River Meridian, Arizona, accepted July 24, 2002 and officially filed July 30, 2002.

This plat was prepared at the request of the Kingman Field Office, Bureau of Land Management.

A plat representing the dependent resurvey of portions of the south and west boundaries and a portion of the subdivisional lines and the subdivision of sections 20 and 29, Township 11 South, Range 10 East of the Gila and Salt River Meridian, Arizona, accepted October 21, 2002 and officially filed October 25, 2002.

This plat was prepared at the request of the Tucson Field Office, Bureau of Land Management.

A plat representing the dependent resurvey of a portion of the south and west boundaries, and a portion of the subdivisional lines and the subdivision of section 18, Township 12 South, Range 10 East of the Gila and Salt River Meridian, Arizona, accepted October 21, 2002 and officially filed October 25, 2002.

This plat was prepared at the request of the Tucson Field Office, Bureau of Land Management.

A plat representing the dependent resurvey of a portion of the east and north boundaries and a portion of the subdivisional lines, the subdivision of section 14 and the metes-and-bounds survey of the Aravaipa Canyon Wilderness Area Boundary, Township 7 South, Range 18 East of the Gila and Salt River Meridian, Arizona, accepted February 10, 2003 and officially filed February 13, 2003.

This plat was prepared at the request of the Safford Field Office, Bureau of Land Management.

A plat representing the dependent resurvey of a portion of the south and west boundaries and a portion of the subdivisional lines, the subdivision of section 19 and the metes-and-bounds survey of the Aravaipa Canyon Wilderness Area Boundary, Township 6 South, Range 19 East of the Gila and Salt River Meridian, Arizona, accepted January 31, 2003 and officially filed February 6, 2003.

This plat was prepared at the request of the Safford Field Office, Bureau of Land Management.

A plat representing the metes-and-bounds survey of the Aravaipa Canyon Wilderness Area Boundary, Township 7 South, Range 19 East of the Gila and Salt River Meridian, Arizona, accepted February 10, 2003 and officially filed February 13, 2003.

This plat was prepared at the request of the Safford Field Office, Bureau of Land Management.

A plat representing the dependent resurvey of a portion of the east boundary and a portion of the subdivisional lines and the subdivision of section 24, Township 17 South, Range 23 East of the Gila and Salt River Meridian, Arizona, accepted August 22, 2002 and officially filed August 27, 2002.

This plat was prepared at the request of the Coronado National Forest, United States Forest Service.

2. The corrective survey (field notes only) of the ¼ section corner of section 1 only, on the Seventh Standard Parallel North, Township 28 North, Range 30 East of the Gila and Salt River Meridian, Arizona, were approved January 1, 2003.

These field notes were prepared at the request of the Bureau of Indian Affairs, Navajo Regional Office.

3. All inquiries relating to these lands should be sent to the Arizona State Office, Bureau of Land Management, 222 N. Central Avenue, P.O. Box 1552, Phoenix, Arizona 85001-1552.

Kenny D. Ravnikar,
Chief Cadastral Surveyor of Arizona.

[FR Doc. 03-10266 Filed 4-24-03; 8:45 am]

BILLING CODE 4310-32-P